FEDERAL RESERVE SYSTEM

12 CFR Part 261a

[Docket No. R-1071]

Rules Regarding Access to Personal Information Under the Privacy Act

AGENCY: Board of Governors of the Federal Reserve System.

ACTION: Final rule.

SUMMARY: In accordance with the Privacy Act, the Board of Governors of the Federal Reserve System (Board) is amending its Rules Regarding Access to Personal Information under the Privacy Act to include a new system of records, entitled Multi-rater Feedback Records (BGFRS-25) to the list of system of records that is exempt from certain required disclosures. Notice of the new system of records is published elsewhere in this Federal Register.

EFFECTIVE DATE: June 28, 2000.

FOR FURTHER INFORMATION CONTACT: Elaine M. Boutilier, Senior Counsel, Legal Division (202/452-2418), or Chris Fields, Manager, Human Resources Function, Management Division (202/452-3654), Board of Governors of the Federal Reserve System, 20th Street and Constitution Avenue, NW, Washington, DC 20551. For users of the Telecommunications Device for the Deaf (TDD) only, contact Janice Simms at 202/452-4984.

SUPPLEMENTARY INFORMATION: The Board is instituting a feedback program for its managers and officers. Under this Multi-rater Feedback program, Board employees who work for or with a particular manager or officer are asked to complete a voluntary, confidential questionnaire regarding the performance of that manager/officer and send it directly to a consultant hired by the Board for this program. The consultant analyzes the completed questionnaires and compiles a report for the manager/officer that summarizes the comments from the questionnaires. This report does not identify individual comments or those who completed the questionnaires. The report is given only to the manager/officer being evaluated; no other Board employee or officer receives a copy of the report. The consultant maintains all of the data connected with this program, identified only by the name of the manager/officer being evaluated.

Although information from the completed questionnaires is stored in the system of records without identifying the individual who completed the questionnaire, it is possible that the individual could be identified by careful study of the answers provided. To protect the confidentiality of these participants, which is expressly promised when the questionnaires are distributed, this data will not be available to the manager/officer that is the subject of the questionnaires. Accordingly, access to certain data in this system of records is restricted pursuant to the exemption provided in subsection (k)(5) of the Privacy Act, 5 U.S.C. 552a(k)(5). The Board's Rules Regarding Access to Personal Information under the Privacy Act must be amended to include this system of records in the list of “exempt” systems of records. In addition, the Board is taking this opportunity to remove from that list a system of records that was amended in 1998 and no longer contains information that is exempt from the access provisions of the Privacy Act.

Regulatory Flexibility Act

In accordance with 5 U.S.C. 605, the Board certifies that this rule will not have a significant economic impact on a substantial number of small entities, because it applies only to internal personnel matters of the agency.

Administrative Procedure Act

This rule is exempt from the rulemaking provisions of the Administrative Procedure Act, 5 U.S.C. 553, and the Congressional Review Act, pursuant to 5 U.S.C. 804(3)(B) and (C), because it is a rule relating to agency management or personnel and a rule of agency procedure that does not substantially affect the rights or obligations of non-agency parties.

List of Subjects in 12 CFR Part 261a

Federal Reserve System, Privacy.

For the reasons set forth in the preamble, the Board amends 12 CFR part 261a as follows:

PART 261a—RULES REGARDING ACCESS TO PERSONAL INFORMATION UNDER THE PRIVACY ACT OF 1974

1. The authority citation for part 261a is revised to read as follows:

Authority: 5 U.S.C. 552a

2. In § 261a.13, remove paragraph (b)(6), redesignate paragraphs (b)(7), (8), and (9) as paragraphs (b)(6), (7), and (8), and add a new paragraph (b)(9) to read as follows:

§ 261a.13 Exemptions.

* * * * *

(b) * * *

(9) BGFRS-25 Multi-rater Feedback Records.

* * * * *

By order of the Board of Governors of the Federal Reserve System, May 19, 2000.
Jennifer J. Johnson,
Secretary of the Board.

[FR Doc. 00-13127 Filed 5-26-00; 8:45 am]

BILLING CODE 6210-01-P